DEPARTMENT OF ENERGY

Federal Energy Regulatory Commission

Combined Notice of Filings #2

Take notice that the Commission received the following electric rate filings:

Docket Numbers: ER10-2641-031; ER10-1874-007; ER10-2663-032; ER10-2881-032; ER10-2882-034; ER10-2883-032; ER10-2884-032; ER10-2885-032; ER16-2509-003; ER17-2400-003; ER17-2401-003; ER17-2403-003; ER17-2404-003.

Applicants: Oleander Power Project, Limited Partnership, Southern Company—Florida LLC, Mankato Energy Center, LLC, Alabama Power Company, Southern Power Company, Mississippi Power Company, Georgia Power Company, Gulf Power Company, Rutherford Farm, LLC, SP Butler Solar, LLC, SP Decatur Parkway Solar, LLC, SP Pawpaw Solar, LLC, SP Sandhills Solar, LLC.

Description: Notification of Change in Status of Oleander Power Project, Limited Partnership, et al.

Filed Date: 5/3/18.

Accession Number: 20180503-5091.

Comments Due: 5 p.m. ET 5/24/18.

Docket Numbers: ER18-1464-002.

Applicants: Midcontinent Independent System Operator, Inc.

Description: Tariff Amendment: 2018-05-03_2nd Amendment to Sub-Regional Power Balance Constraints filing to be effective 6/27/2018.

Filed Date: 5/3/18.

Accession Number: 20180503-5111.

Comments Due: 5 p.m. ET 5/24/18.

Docket Numbers: ER18-1482-001.

Applicants: Pacific Gas and Electric Company.

Description: Tariff Amendment: Errata to Q1 2018 Quarterly Filing of City and County of San Francisco's WDT SA to be effective 3/31/2018.

Filed Date: 5/3/18.

Accession Number: 20180503-5053.

Comments Due: 5 p.m. ET 5/24/18.

Docket Numbers: ER18-1507-000.

Applicants: PJM Interconnection, L.L.C.

Description: § 205(d) Rate Filing: First Revised ISA, SA No. 2013, Queue No. AC2-018 to be effective 4/11/2018.

Filed Date: 5/2/18.

Accession Number: 20180502-5186.

Comments Due: 5 p.m. ET 5/23/18.

Docket Numbers: ER18-1514-000.

Applicants: Southern California Edison Company.

Description: § 205(d) Rate Filing: GIA & DSA Goleta Energy Center Project SA Nos. 1004-1005 to be effective 5/4/2018.

Filed Date: 5/3/18.

Accession Number: 20180503-5050.

Comments Due: 5 p.m. ET 5/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2018.
Nathaniel J. Davis, Sr.,
Deputy Secretary.

[FR Doc. 2018-09849 Filed 5-8-18; 8:45 am]

BILLING CODE 6717-01-P